INTERNATIONAL TRADE COMMISSION

[Investigation Nos. 701-TA-456 and 731-TA-1152 (Second Review)]

Citric Acid and Certain Citrate Salts From China

Determination

On the basis of the record ¹ developed in the subject five-year reviews, the United States International Trade Commission (“Commission”) determines, pursuant to the Tariff Act of 1930 (“the Act”), that revocation of the countervailing and antidumping duty orders on citric acid and certain citrate salts from China would be likely to lead to continuation or recurrence of material injury to an industry in the United States within a reasonably foreseeable time.

¹ The record is defined in § 207.2(f) of the Commission's Rules of Practice and Procedure (19 CFR 207.2(f)).

Background

The Commission instituted these reviews on May 1, 2020 (85 FR 25475) and determined on August 4, 2020 that it would conduct expedited reviews (85 FR 74759, November 23, 2020).

The Commission made these determinations pursuant to section 751(c) of the Act (19 U.S.C. 1675(c)). It completed and filed its determinations in these reviews on December 18, 2020. The views of the Commission are contained in USITC Publication 5147 (December 2020), entitled Citric Acid and Certain Citrate Salts from China: Investigation Nos. 701-TA-456 and 731-TA-1152 (Second Review).

By order of the Commission.
Issued: December 18, 2020.
William Bishop,
Supervisory Hearings and Information Officer.

[FR Doc. 2020-28502 Filed 12-23-20; 8:45 am]

BILLING CODE 7020-02-P